DEPARTMENT OF COMMERCE

National Oceanic and Atmospheric Administration

50 CFR Part 300

[Docket No. 010111010-1010-01-01; I.D. 113000B]

RIN 0648-AO42

International Fisheries Regulations; Pacific Tuna Fisheries; Correction

AGENCY: National Marine Fisheries Service (NMFS), National Oceanic and Atmospheric Administration (NOAA), Commerce.

ACTION: Correction to proposed rule; implementation of Inter-American Tropical Tuna Commission (IATTC) recommendations to reduce bycatch in the purse seine fishery and to establish a regional vessel register.

SUMMARY: This document corrects the classification section of the preamble to the proposed rule which was published on March 30, 2001. This rule proposes fishery conservation and management measures for the purse seine fishery in the eastern Pacific Ocean (EPO) to reduce bycatch of juvenile tuna, non-target fish species, and non-fish species. The measures were recommended by the IATTC and approved by the Department of State (DOS), in accordance with the Tuna Conventions Act of 1950. In addition, the proposed rule would establish reporting requirements for U.S. vessels fishing for tuna in the EPO so that NMFS can provide information to the IATTC for a regional vessel register.

FOR FURTHER INFORMATION CONTACT: Svein Fougner, 562-980-4030.

SUPPLEMENTARY INFORMATION:

Background

The proposed rule that was published in the Federal Register on March 30, 2001 (66 FR 17387), that proposes conservation and management measures for the purse seine fishery in the EPO to reduce bycatch of juvenile tuna, non-target fish species, and non-fish species, contained a number of errors that require correction.

Correction

In the classification section of the proposed rule FR Doc. 01-7942, in the issue of Friday, March 30, 2001 (66 FR 17387), make the following correction:

On page 17388, in the second column, delete the last paragraph and replace it with the following paragraphs:

“Two alternatives were considered. A no action alternative and an additional action alternative.

Under the no action alternative, U.S. regulations would be deferred until it is clear that other nations have placed restrictions on their vessels equal to those imposed by the U.S. Deferring implementation of these regulations at this time would not immediately have any impacts on fish stocks because the U.S. share of total fishing in the EPO is quite small and U.S. fishers generally try to avoid small fish already due to their low value. Also, U.S. vessels already take care to minimize harm to sea turtles. However, this approach could result in serious long term impacts if other nations viewed failure of the U.S. to implement regulations in a timely manner as a sign of disagreement with the measures recommended by the IATTC. The U.S. has obligations under the convention to implement such recommendations as are approved by the DOS, and not fulfilling those obligations would probably result in many other nations failing to abide by the IATTC recommendations. This would almost certainly result in overfishing of the stocks, excessive bycatch, and long term losses to U.S. industries and vessel owners.

Under the additional action alternative, the U.S. would go beyond the recommendations of the IATTC or take an alternative approach to the vessel register information collection. For example, NMFS might act to require vessels to abort sets if the first brailing of fish on board demonstrates that there is a certain percentage of fish below a given size. NMFS also could propose to prohibit log sets (fish aggregating device sets)(FADs) to ensure that bycatch will be reduced. U.S. vessels have become more dependent on log sets (especially FAD sets) in recent years, and the IATTC already has recommended (and NMFS has implemented regulations) to close the log set fishery from September 15 through December 15 (at least for 2000), which will by itself contribute to reduced bycatch. NMFS might also establish a separate EPO licensing program with applications to include all the specific items of information specified in the IATTC recommendation.

Such actions would have greater impact on U.S. fleets than the proposed action. It is likely that more sets would be aborted than is now the case, which could cause inefficiency in the fishing operation and put the U.S. vessels at a disadvantage compared to foreign fleets. It is not clear that the benefits of further reductions would offset the loss of economic value associated with log set fishing; log sets constitute a very cost-effective fishing technique, and other approaches than closures or full retention may be equally effective in reducing bycatch.

With respect to licensing, a single Federal license might be an efficient way not only to document who is fishing for these species in the EPO, but also to establish the universe of persons who would need to be contacted and whose fishing would need to be monitored to ensure adequate information for future management decisions. However, NMFS notes that the Pacific Fishery Management Council is preparing a fishery management plan for U.S. fisheries for highly migratory species off California, Oregon and Washington. Among the matters under consideration is a single licensing program and comprehensive reporting. NMFS does not want to foreclose the Council’s options at this time, and, therefore, rejects this alternative”.

Dated: April 17, 2001.
John Oliver,
Acting Assistant Administrator for Fisheries, National Marine Fisheries Service.

[FR Doc. 01-9984 Filed 4-20-01; 8:45 am]

BILLING CODE 3510-22-S